DEPARTMENT OF EDUCATION

Applications for New Awards; Expanding Opportunity Through Quality Charter Schools Program (CSP)—Grants to Charter School Developers for the Opening of New Charter Schools and for the Replication and Expansion of High-Quality Charter Schools

AGENCY: Office of Innovation and Improvement, Department of Education.

ACTION: Notice.

SUMMARY: The Department of Education is issuing a notice inviting applications for new awards for fiscal year (FY) 2018 for CSP—Grants to Charter School Developers for the Opening of New Charter Schools and for the Replication and Expansion of High-Quality Charter Schools, Catalog of Federal Domestic Assistance (CFDA) numbers 84.282B and 84.282E.

DATES:

Applications Available: March 2, 2018.

Date of Pre-Application Webinar: Thursday, March 8, 2018, 1:00 p.m., Washington, DC time.

Deadline for Transmittal of Applications: April 16, 2018.

Deadline for Intergovernmental Review: June 15, 2018.

Pre-Application Webinar Information: The Department will hold a pre-application meeting via webinar for prospective applicants on Thursday, March 8, 1:00 p.m., Washington, DC time. Individuals interested in attending this meeting are encouraged to pre-register by emailing their name, organization, and contact information with the subject heading “DEVELOPER GRANTS PRE-APPLICATION MEETING” to CharterSchools@ed.gov. There is no registration fee for attending this meeting.

For further information about the pre-application meeting, contact Eddie Moat, U.S. Department of Education, 400 Maryland Avenue SW, Room 4W259, Washington, DC 20202-5970. Telephone: (202) 401-2266 or by email: eddie.moat@ed.gov.

ADDRESSES: The addresses pertinent to this competition—including the addresses for obtaining and submitting an application—can be found under SUPPLEMENTARY INFORMATION.

FOR FURTHER INFORMATION CONTACT: Eddie Moat, U.S. Department of Education, 400 Maryland Avenue SW, Room 4W259, Washington, DC 20202-5970. Telephone: (202) 401-2266 or by email: eddie.moat@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The major purposes of the CSP are to expand opportunities for all students, particularly traditionally underserved students, to attend charter schools and meet challenging State academic standards; provide financial assistance for the planning, program design, and initial implementation of public charter schools; increase the number of high-quality charter schools available to students across the United States; evaluate the impact of charter schools on student achievement, families, and communities; share best practices between charter schools and other public schools; encourage States to provide facilities support to charter schools; and support efforts to strengthen the charter school authorizing process.

CSP—Grants to Charter School Developers for the Opening of New Charter Schools and for the Replication and Expansion of High-Quality Charter Schools (Developer Grants) are intended to support charter schools that serve early childhood, elementary school, or secondary school students by providing grant funds to eligible applicants for the opening of new charter schools (CFDA number 84.282B) and for the replication and expansion of high-quality charter schools (CFDA number 84.282E). Eligibility for a grant under this competition is limited to charter school developers in States that do not currently have a CSP State Entity grant (CFDA number 84.282A) under the Elementary and Secondary Education Act of 1965 (ESEA), as amended by the Every Student Succeeds Act (ESSA). Eligibility in a State with a CSP State Educational Agency (SEA) grant under the ESEA, as amended by the No Child Left Behind Act of 2001 (NCLB) (CFDA number 84.282A) is limited to charter school developers applying for grants for the replication and expansion of high-quality charter schools (CFDA number 84.282E) and only if the Department has not approved an amendment to the SEA's approved grant application authorizing the SEA to make subgrants for replication and expansion. Charter schools that receive financial assistance through Developer Grants provide programs of elementary or secondary education, or both, and may also serve students in early childhood education programs or postsecondary students.

Background: This notice invites applications from eligible applicants for two types of grants: (1) Grants to Charter School Developers for the Opening of New Charter Schools (CFDA number 84.282B) and (2) Grants to Charter School Developers for the Replication and Expansion of High-Quality Charter Schools (CFDA number 84.282E). Under this competition, each CFDA number, 84.282B and 84.282E, constitutes its own funding category. The Secretary intends to award grants under each CFDA number for applications that are of sufficient quality. Information pertaining to each type of grant is provided in subsequent sections of this notice.

The ESSA, enacted in December 2015, reauthorized and amended the ESEA. The amendments included significant changes affecting the CSP, including the Developer Grants competition.¹ Consequently, this notice contains definitions, application requirements, and selection criteria from the ESEA, as amended by the ESSA,² as well as priorities, definitions, application requirements, and selection criteria that we are establishing in accordance with section 437(d)(1) of the General Education Provisions Act (GEPA), 20 U.S.C. 1232(d)(1).

¹ Prior to enactment of the ESSA, the ESEA, as amended by NCLB, authorized CSP Grants to Non-State Educational Agency Eligible Applicants for Planning, Program Design, and Initial Implementation and for Dissemination (Non-SEA Grants). Under the ESSA, this authority has been substantially revised and, as a result, the name of this competition differs from previous years.

² All references to the ESEA in this notice are to the ESEA, as amended by the ESSA, unless otherwise noted.

Eligible applicants are those that are qualified based on the requirements set forth in this notice. For more information on eligibility, please see section III.1. of this notice.

All charter schools receiving CSP funds must meet the definition of a charter school in section 4310(2) of the ESEA, including the requirements that a charter school comply with various non-discrimination laws, including the Age Discrimination Act of 1975, Title VI of the Civil Rights Act of 1964, Title IX of the Education Amendments of 1972, section 504 of the Rehabilitation Act of 1973, the Americans with Disabilities Act of 1990, section 444 of GEPA, and part B of the Individuals with Disabilities Education Act (IDEA) (i.e., rights afforded to children with disabilities and their parents), and applicable State laws.

Priorities: This notice includes three competitive preference priorities. We are establishing Competitive Preference Priorities 1, 2, and 3 for the FY 2018 grant competition and any subsequent year in which we make awards from the list of unfunded applications from this competition, in accordance with section 437(d)(1) of GEPA, 20 U.S.C. 1232(d)(1).

Competitive Preference Priorities: These priorities are competitive preference priorities.

For CFDA number 84.282B, under 34 CFR 75.105(c)(2)(i), we award up to an additional four points to an application depending on how well the application addresses Competitive Preference Priority 1 and up to an additional four points to an application that meets Competitive Preference Priority 2. The maximum number of points an application for CFDA number 84.282B can receive under these priorities is eight.

For CFDA number 84.282E, under 34 CFR 75.105(c)(2)(i), we award up to an additional two points to an application depending on how well the application addresses Competitive Preference Priority 1, up to an additional two points to an application that meets Competitive Preference Priority 2, and an additional two points to an application that meets Competitive Preference Priority 3. The maximum number of points an application for CFDA number 84.282E can receive under these priorities is six.

These priorities are:

Competitive Preference Priority 1—Supporting High-Need Students by Increasing Access to High-Quality Educational Choice. (Up to four points under CFDA number 84.282B, and up to two points under CFDA number 84.282E).

Background: This priority focuses on projects serving children with disabilities, English learners (ELs), students in federally recognized Indian Tribes, and students served by rural local educational agencies. With respect to children with disabilities, the priority is intended to support projects that would serve these students at rates that are equal to or greater than those of surrounding public schools. With respect to ELs, it is intended to promote projects that would similarly serve these students at rates that are equal to or greater than those of surrounding public schools in communities with high concentrations of these students. The Department encourages applicants addressing this priority to include surrounding public schools' rates of enrollment for children with disabilities and ELs in their applications.

The Department believes that charter schools can provide critically needed options for both children with disabilities and ELs. Moreover, research indicates that charter schools show gains on State assessments for children with disabilities in mathematics, and for ELs in mathematics and reading that are higher than those for their counterparts in traditional public schools.³ In addition, a secondary study by the National Center for Special Education in Charter Schools analyzing data from the Department's Civil Rights Data Collection for 2011-2012 found a narrowing, but still existing, gap in enrollment of children with disabilities in charter schools compared to traditional public schools.⁴

³ Center for Research on Education Outcomes (2013). “National Charter School Study 2013,” available online at http://credo.stanford.edu/documents/NCSS%202013%20Final%20Draft.pdf.

⁴ National Center for Special Education in Charter Schools (2015). “Key Trends in Special Education in Charter Schools,” available online at www.ncsecs.org/resources//.

In addition, the Department understands that students who are members of federally recognized Indian Tribes and their communities face unique challenges. Therefore, through this priority the Department encourages applicants to use charter schools as part of the efforts to strengthen public education for Native American communities. Furthermore, the Department recognizes that rural schools confront a particular set of challenges and seeks to support rural education leaders in using charter schools, as appropriate, as part of their overall efforts to improve educational outcomes.

Priority: This priority is for projects that are designed to increase access to educational choice and improve academic outcomes and learning environments for one or more of the following groups of students:

(i) Students in communities served by rural local educational agencies

(ii) Children with disabilities

(iii) English learners

(iv) Students who are members of federally recognized Indian Tribes.

Note: Applicants may choose to respond to one or more of the priority areas and are not required to respond to each priority area in order to receive the maximum available points under this competitive preference priority.

Competitive Preference Priority 2—Dual or Concurrent Enrollment Programs and Early College High Schools (Up to four points under CFDA number 84.282B, and up to two points under CFDA number 84.282E).

Background: This priority is for projects that offer a program enabling secondary school students to begin earning credit toward a postsecondary degree or credential prior to high school graduation. Research has shown that dual or concurrent enrollment programs and early college high schools have positive effects including boosting college access and degree attainment, especially for students typically underrepresented in higher education.⁵

⁵ Please see the following link for a study from the Institute of Education Sciences (IES): https://ies.ed.gov/ncee/wwc/InterventionReport/671.

Priority: The extent to which the proposed project is designed to increase student access to, participation in, and completion of dual or concurrent enrollment programs or early college high schools.

Competitive Preference Priority 3—Single School Operators. (Zero or two points under CFDA number 84.282E)

Background: This priority is specifically for applications for Grants to Charter School Developers for the Replication and Expansion of High-Quality Charter Schools (CFDA number 84.282E). Under this priority, we give preference to applicants that currently operate a single charter school. We are including this priority to encourage applications from developers that currently operate a single charter school but seek to replicate or expand it.

Priority: Applications submitted under CFDA number 84.282E that provide evidence that the applicant currently operates one, and only one, charter school.

Application Requirements: Applications for grants under CFDA numbers 84.282B and 84.282E must address the following application requirements. An applicant may choose to respond to these requirements in the context of its responses to the selection criteria in section V.1 of this notice. The source of each requirement is listed in parentheses. Where no source is provided, we establish the requirement, for FY 2018 and any subsequent year in which we make awards from the list of unfunded applications from this competition, in accordance with section 437(d)(1) of GEPA, 20 U.S.C. 1232(d)(1).

Grants to Charter School Developers for the Opening of New Charter Schools and for the Replication and Expansion of High-Quality Charter schools (CFDA numbers 84.282B and 84.282E).

Applicants for grants under CFDA number 84.282B or 84.282E must provide the following:

(a) A description of the roles and responsibilities of the eligible applicant, partner organizations, and charter management organizations, including the administrative and contractual roles and responsibilities of such partners (Section 4303(f)(1)(C)(i)(I) of the ESEA);

(b) A description of the quality controls agreed to between the eligible applicant and the authorized public chartering agency involved, such as a contract or performance agreement, how a school's performance in the State's accountability system and impact on student achievement (which may include student academic growth) will be one of the most important factors for renewal or revocation of the school's charter, and how the SEA and the authorized public chartering agency involved will reserve the right to revoke or not renew a school's charter based on financial, structural, or operational factors involving the management of the school (Section 4303(f)(1)(C)(i)(II) of the ESEA);

(c) A description of how the eligible applicant will solicit and consider input from parents and other members of the community on the implementation and operation of each charter school that will receive funds (Section 4303(f)(1)(C)(i)(IV) of the ESEA);

(d) A description of the eligible applicant's planned activities and expenditures of funds to support the activities described in section 4303(b)(1) of the ESEA, and how the eligible applicant will maintain financial sustainability after the end of the grant period (Section 4303(f)(1)(C)(i)(V) of the ESEA);

(e) A description of how the eligible applicant will support the use of effective parent, family, and community engagement strategies to operate each charter school that will receive funds under this program (Section 4303(f)(1)(C)(i)(VI) of the ESEA);

(f) A description of how the eligible applicant has considered and planned for the transportation needs of students for each school that will receive funds (Section 4303(f)(1)(E) of the ESEA);

(g) A description of how each school that will receive funds will support all students once they are enrolled to promote retention, including by reducing the overuse of discipline practices that remove students from the classroom;

(h) A description of how each school that will receive funds will have a high degree of autonomy over budget and operations, including autonomy over personnel decisions (Section 4303(f)(2)(A) of the ESEA);

(i) A description of how the applicant will ensure that each charter school that will receive funds will recruit, enroll, and retain students, including children with disabilities, ELs, and other educationally disadvantaged students, including the lottery and enrollment procedures that will be used for each charter school if more students apply for admission than can be accommodated, and, if the applicant proposes to use a weighted lottery, how the weighted lottery complies with section 4303(c)(3)(A) of the ESEA;

(j) A description of how the applicant will ensure that all eligible children with disabilities receive a free appropriate public education in accordance with part B of the IDEA;

(k) A description of how each school that will receive funds meets the definition of charter school under section 4310(2) of the ESEA as well as how the autonomy and flexibility granted to each charter school that will receive funds is consistent with the definition of a charter school;

(l) If an applicant proposes to open a new charter school (CFDA number 84.282B) or proposes to replicate or expand a charter school (CFDA number 84.282E) that provides a single-sex educational program, the applicant must demonstrate that the proposed single-sex educational programs are in compliance with Title IX of the Education Amendments of 1972 (20 U.S.C. 1681, et seq.) (“Title IX”) and its implementing regulations, including 34 CFR 106.34.

(m) A request and justification for any waivers of Federal statutory or regulatory requirements over which the Secretary exercises administrative authority, except any such requirement relating to the elements of a charter school in section 4310(2) of the ESEA, that the applicant believes are necessary to implement its proposed project (Section 4303(d)(5));

(n) A complete logic model for the grant project. The logic model must include the applicant's objectives for implementing a new charter school or replicating or expanding a high-quality charter school with funding under this competition; and

(o) The applicant's most recent available independently audited financial statements prepared in accordance with generally accepted accounting principles.

Grants for the Replication and Expansion of High-Quality Charter Schools (CFDA number 84.282E).

In addition to the preceding application requirements, applicants for CFDA number 84.282E must address the following application requirements.

(a) For each charter school currently operated or managed by the applicant, provide—

(1) Information that demonstrates that the school is treated as a separate school by its authorized public chartering agency and the State, including for purposes of accountability and reporting under Title I, Part A of the ESEA;

(2) Student assessment results for all students and for each subgroup of students described in section 1111(c)(2) of the ESEA;

(3) Attendance and student retention rates for the most recently completed school year and, if applicable, the most recent available four-year adjusted cohort graduation rates and extended-year adjusted cohort graduation rates; and

(4) Information on any significant compliance and management issues encountered within the last three school years by the existing charter school being operated or managed by the eligible entity, including in the areas of student safety and finance.

Project Director's Meeting: Applicants approved for funding under either CFDA number 84.282B or 84.282E must attend a two-day meeting for project directors during each year of the project. An applicant may include the cost of attending this meeting in its proposed budget.

Definitions: The following definitions, where cited, are from 34 CFR 75.225 and 77.1, and sections 4310 and 8101 of the ESEA. We establish the definition of educationally disadvantaged student and rural local educational agency for FY 2018 and any subsequent year in which we make awards from the list of unfunded applications from this competition, in accordance with section 437(d)(1) of GEPA, 20 U.S.C. 1232(d)(1).

Ambitious means promoting continued, meaningful improvement for program participants or for other individuals or entities affected by the grant, or representing a significant advancement in the field of education research, practices, or methodologies. When used to describe a performance target, whether a performance target is ambitious depends upon the context of the relevant performance measure and the baseline for that measure. (34 CFR 77.1)

Authorized public chartering agency means a State educational agency, local educational agency, or other public entity that has the authority pursuant to State law and approved by the Secretary to authorize or approve a charter school. (Section 4310(1) of the ESEA)

Baseline means the starting point from which performance is measured and targets are set. (34 CFR 77.1)

Charter management organization means a nonprofit organization that operates or manages a network of charter schools linked by centralized support, operations, and oversight. (Section 4310(3) of the ESEA)

Charter school means a public school that—

(a) In accordance with a specific State statute authorizing the granting of charters to schools, is exempt from significant State or local rules that inhibit the flexible operation and management of public schools, but not from any rules relating to the other requirements of this definition;

(b) Is created by a developer as a public school, or is adapted by a developer from an existing public school, and is operated under public supervision and direction;

(c) Operates in pursuit of a specific set of educational objectives determined by the school's developer and agreed to by the authorized public chartering agency;

(d) Provides a program of elementary or secondary education, or both;

(e) Is nonsectarian in its programs, admissions policies, employment practices, and all other operations, and is not affiliated with a sectarian school or religious institution;

(f) Does not charge tuition;

(g) Complies with the Age Discrimination Act of 1975, Title VI of the Civil Rights Act of 1964, Title IX of the Education Amendments of 1972, section 504 of the Rehabilitation Act of 1973, the Americans with Disabilities Act of 1990 (42 U.S.C. 12101 et seq.), section 444 of GEPA (20 U.S.C. 1232g) (commonly referred to as the “Family Educational Rights and Privacy Act of 1974”) and part B of the IDEA;

(h) Is a school to which parents choose to send their children, and that—

(1) Admits students on the basis of a lottery, consistent with section 4303(c)(3)(A) of the ESEA, if more students apply for admission than can be accommodated; or

(2) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in paragraph (1);

(i) Agrees to comply with the same Federal and State audit requirements as do other elementary schools and secondary schools in the State, unless such State audit requirements are waived by the State;

(j) Meets all applicable Federal, State, and local health and safety requirements;

(k) Operates in accordance with State law;

(l) Has a written performance contract with the authorized public chartering agency in the State that includes a description of how student performance will be measured in charter schools pursuant to State assessments that are required of other schools and pursuant to any other assessments mutually agreeable to the authorized public chartering agency and the charter school; and

(m) May serve students in early childhood education programs or postsecondary students. (Section 4310(2) of the ESEA)

Child with a disability has the same meaning given that term in section 602 of the IDEA. (Section 8101(4) of the ESEA)

Developer means an individual or group of individuals (including a public or private nonprofit organization), which may include teachers, administrators and other school staff, parents, or other members of the local community in which a charter school project will be carried out. (Section 4310(5) of the ESEA)

Dual or concurrent enrollment program means a program offered by a partnership between at least one institution of higher education and at least one local educational agency through which a secondary school student who has not graduated from high school with a regular high school diploma is able to enroll in one or more postsecondary courses and earn postsecondary credit that—

(a) Is transferable to the institutions of higher education in the partnership; and

(b) Applies toward completion of a degree or recognized educational credential as described in the Higher Education Act of 1965 (20 U.S.C. 1001 et seq.). (Section 8101(15) of the ESEA)

Early childhood education program means (a) a Head Start program or an Early Head Start program carried out under the Head Start Act (42 U.S.C. 9831 et seq.), including a migrant or seasonal Head Start program, an Indian Head Start program, or a Head Start program or an Early Head Start program that also receives State funding; (b) a State licensed or regulated child care program; or (c) a program that (i) serves children from birth through age six that addresses the children's cognitive (including language, early literacy, and early mathematics), social, emotional, and physical development; and (ii) is (I) a State prekindergarten program; (II) a program authorized under section 619 or part C of the IDEA; or (III) a program operated by a local educational agency. (Section 8101(16) of the ESEA)

Early college high school means a partnership between at least one local educational agency and at least one institution of higher education that allows participants to simultaneously complete requirements toward earning a regular high school diploma and earn not less than 12 credits that are transferable to the institutions of higher education in the partnership as part of an organized course of study toward a postsecondary degree or credential at no cost to the participant or participant's family. (Section 8101(17) of the ESEA)

Educationally disadvantaged students means students in the categories described in section 1115(c)(2) of the ESEA, which include economically disadvantaged children, children with disabilities, migrant children, ELs, neglected or delinquent children, and homeless children.

English learner, when used with respect to an individual, means an individual—

(a) Who is aged 3 through 21;

(b) Who is enrolled or preparing to enroll in an elementary school or secondary school;

(c)(1) Who was not born in the United States or whose native language is a language other than English;

(2)(i) Who is a Native American or Alaska Native, or a native resident of the outlying areas; and

(ii) Who comes from an environment where a language other than English has had a significant impact on the individual's level of English language proficiency; or

(3) Who is migratory, whose native language is a language other than English, and who comes from an environment where a language other than English is dominant; and

(d) Whose difficulties in speaking, reading, writing, or understanding the English language may be sufficient to deny the individual—

(1) The ability to meet the challenging State academic standards;

(2) The ability to successfully achieve in classrooms where the language of instruction is English; or

(3) The opportunity to participate fully in society. (ESEA section 8101(20))

Expand, when used with respect to a high-quality charter school, means to significantly increase enrollment or add one or more grades to the high-quality charter school. (Section 4310(7) of the ESEA)

High-quality charter school means a charter school that—

(a) Shows evidence of strong academic results, which may include strong student academic growth, as determined by a State;

(b) Has no significant issues in the areas of student safety, financial and operational management, or statutory or regulatory compliance;

(c) Has demonstrated success in significantly increasing student academic achievement, including graduation rates, where applicable, for all students served by the charter school; and

(d) Has demonstrated success in increasing student academic achievement, including graduation rates, where applicable, for each of the subgroups of students, as defined in section 1111(c)(2), except that such demonstration is not required in a case in which the number of students in a group is insufficient to yield statistically reliable information or the results would reveal personally identifiable information about an individual student. (Section 4310(8) of the ESEA)

Logic model (also referred to as a theory of action) means a framework that identifies key project components of the proposed project (i.e., the active “ingredients” that are hypothesized to be critical to achieving the relevant outcomes) and describes the theoretical and operational relationships among the key project components and relevant outcomes (34 CFR 77.1)

Performance measure means any quantitative indicator, statistic, or metric used to gauge program or project performance. (34 CFR 77.1)

Performance target means a level of performance that an applicant would seek to meet during the course of a project or as a result of a project. (34 CFR 77.1)

Replicate, when used with respect to a high-quality charter school, means to open a new charter school, or a new campus of a high-quality charter school, based on the educational model of an existing high-quality charter school, under an existing charter or an additional charter, if permitted or required by State law. (Section 4310(9) of the ESEA)

Rural local educational agency means a local educational agency (LEA) that is eligible under the Small Rural School Achievement (SRSA) program or the Rural and Low-Income School (RLIS) program authorized under Title V, Part B of the ESEA. Eligible applicants may determine whether a particular LEA is eligible for these programs by referring to information on the Department's website at www2.ed.gov/nclb/freedom/local/reap.html.

Waiver of Proposed Rulemaking: Under the Administrative Procedure Act (5 U.S.C. 553), the Department generally offers interested parties the opportunity to comment on proposed priorities, selection criteria, definitions, and requirements. Section 437(d)(1) of GEPA, however, allows the Secretary to exempt from rulemaking requirements regulations governing the first grant competition under a new or substantially revised program authority. This is the first grant competition for this program under section 4305(a)(2) of the ESEA, and, therefore, this competition qualifies for this exemption. In order to ensure timely grant awards, the Secretary has decided to forgo public comment on certain priorities, requirements, definitions, and selection criteria, as specified in this notice, in accordance with section 437(d)(1) of GEPA. These priorities, requirements, definitions, and selection criteria will apply to the FY 2018 grant competition and any subsequent year in which we make awards from the list of unfunded applications from this competition.

Program Authority: Title IV, part C of the ESEA (20 U.S.C. 7221-7221j).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 79 apply to all applicants except federally recognized Indian Tribes.

II. Award Information

Type of Award: Discretionary grants.

Estimated Available Funds: The Administration has requested $500,000,000 for the CSP program for FY 2018, of which we intend to use an estimated $15,000,000 for this competition. The actual level of funding, if any, depends on final congressional action. However, we are inviting applications to allow enough time to complete the grant process if Congress appropriates funds for this program.

Contingent upon the availability of funds and the quality of applications, we may make additional awards in subsequent years from the list of unfunded applications from this competition.

Estimated Range of Awards: $150,000-250,000 per school per year.

Estimated Average Size of Awards: $200,000 per school per year.

Maximum Award: See Reasonable and Necessary Costs in section III.4 for information regarding the maximum amount of funds that may be awarded per new school.

Estimated Number of Awards: 30-45.

Note: The Department is not bound by any estimates in this notice. The estimated range and average size of awards are based on a single 12-month budget period. We may use FY 2018 funds to support multiple 12-month budget periods for one or more grantees.

Project Period: Up to 60 months.

III. Eligibility Information

1. Eligible Applicants: Eligible applicants are developers that have—

(a) Applied to an authorized public chartering authority to operate a charter school; and

(b) Provided adequate and timely notice to that authority. (Section 4310(6) of the ESEA).

Additionally, the charter school must be located in a State with a State statute specifically authorizing the establishment of charter schools (section 4310(2) of the ESEA) and in which a State entity currently does not have a CSP State Entity grant (CFDA number 84.282A) under section 4303 of the ESEA.⁶ (Section 4305(a)(2) of the ESEA). In accordance with section 437(d)(1) of GEPA, 20 U.S.C. 1232(d)(1), we further establish that eligibility in a State with a CSP SEA grant (CFDA 84.282A) under the ESEA, as amended by NCLB, is limited to grants for replication and expansion ⁷ (CFDA 84.282E) and only if the Department has not approved an amendment to the SEA's approved grant application authorizing the SEA to make subgrants for replication and expansion.⁸

⁶ States in which a State entity currently has an approved CSP State Entity grant application under section 4303 of the ESEA are Indiana, Maryland, Minnesota, Mississippi, New Mexico, Oklahoma, Rhode Island, Texas, and Wisconsin. We will not consider applications from applicants in these States under either CFDA 84.282B or 84.282E.

⁷ States in which the SEA currently has an approved CSP SEA grant application under the ESEA, as amended by NCLB (i.e., a grant award made in fiscal year 2016 or earlier), include Arizona, California, Colorado, District of Columbia, Florida, Georgia, Illinois, Louisiana, Massachusetts, Nevada, New York, Ohio, Oregon, South Carolina, Tennessee, and Washington. We will not consider applications from applicants in these States for grants for the opening of new charter schools submitted under CFDA number 84.282B.

⁸ The Department is currently reviewing amendment requests from SEAs with grants under the ESEA, as amended by NCLB, that would authorize the SEA to make subgrants for replication and expansion (for more information please see https://innovation.ed.gov/files/2017/12/CSP-ESSA-Flexibilities-FAQ-2017.pdf). The Department will post the names of SEAs receiving approval for this flexibility on its website at https://innovation.ed.gov/what-we-do/charter-schools/charter-schools-program-non-state-educational-agencies-non-sea-planning-program-design-and-initial-implementation-grant/.

As a general matter, the Secretary considers charter schools that have been in operation for more than five years to be past the initial implementation phase and, therefore, ineligible to receive CSP funds under CFDA number 84.282B to support the opening of a new charter school or under CFDA number 84.282E for the replication of a high-quality charter school; however, such schools may receive CSP funds under CFDA number 84.282E for the expansion of a high-quality charter school.

Note: If an applicant has applied to an authorized public chartering agency to operate a new school and has not yet been approved, it should include information in its application addressing the plan and timeline to receive notification from the authorizer on the final decision. Additionally, an applicant should delineate any costs in its proposed budget that are projected to be incurred prior to the date the applicant's charter school application is approved by the authorized public chartering agency.

2. Audits: All grantees must ensure that the charter schools they operate or manage conduct independent, annual audits of their financial statements prepared in accordance with generally accepted accounting principles, and ensure that any such audits are publicly reported. (Section 4303(f)(2)(E)(ii) of the ESEA).

3. Cost Sharing or Matching: This program does not require cost sharing or matching.

4. Subgrantees: A grantee under this competition may not award subgrants to entities to directly carry out project activities described in its application.

5. Reasonable and Necessary Costs: The Secretary may elect to impose maximum limits on the amount of grant funds that may be awarded per new charter school created or replicated, per charter school expanded, or per new school seats created.

For this competition, the maximum limit of grant funds that may be awarded per new, replicated, or expanded charter school is $1,250,000.

In accordance with 2 CFR 200.404, applicants must ensure that all costs included in the proposed budget are reasonable and necessary in light of the goals and objectives of the proposed project. Any costs determined by the Secretary to be unreasonable or unnecessary will be removed from the final approved budget.

A charter school that previously has received CSP funds for replication or expansion or for planning or initial implementation of a charter school under CFDA number 84.282A or 84.282M (as administered under the ESEA, as amended by the No Child Left Behind Act of 2001 (NCLB)) may not use funds under this grant for the same purpose. However, such charter school may be eligible to receive funds under this competition to expand the charter school beyond the existing grade levels or student count. Likewise, a charter school that receives funds under this competition is ineligible to receive funds for the same purpose under section 4303(b)(1) or 4305(b) of the ESEA, including opening and preparing for the operation of a new charter school, opening and preparing for the operation of a replicated high-quality charter school, or expanding a high-quality charter school (i.e., CFDA number 84.282A or 84.282M).

IV. Application and Submission Information

1. Application Submission Instructions: For information on how to submit an application please refer to our Common Instructions for Applicants to Department of Education Discretionary Grant Programs, published in the Federal Register on February 12, 2018 (83 FR 6003).

2. Submission of Proprietary Information: Given the types of projects that may be proposed in applications for this competition, an application may include business information that the applicant considers proprietary. The Department's regulations define “business information” in 34 CFR 5.11.

Because we plan to make successful applications available to the public, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this program.

4. Funding Restrictions: Grantees must use the grant funds to open and prepare for the operation of a new charter school; to open and prepare for the operation of a replicated high-quality charter school; or to expand a high-quality charter school, as applicable. Grant funds must be used to carry out allowable activities, described in section 4303(h) of the ESEA, which include the following:

(a) Preparing teachers, school leaders, and specialized instructional support personnel, including through paying costs associated with—

(i) Providing professional development; and

(ii) Hiring and compensating, during the applicant's planning period specified in the application for funds, one or more of the following:

(A) Teachers.

(B) School leaders.

(C) Specialized instructional support personnel.

(D) Acquiring supplies, training, equipment (including technology), and educational materials (including developing and acquiring instructional materials).

(E) Carrying out necessary renovations to ensure that a new school building complies with applicable statutes and regulations, and minor facilities repairs (excluding construction).

(F) Providing one-time, startup costs associated with providing transportation to students to and from the charter school.

(G) Carrying out community engagement activities, which may include paying the cost of student and staff recruitment.

(H) Providing for other appropriate, non-sustained costs related to the opening of new charter schools, or the replication or expansion of high-quality charter schools, as applicable, when such costs cannot be met from other sources.

A grant awarded by the Secretary under this competition may be for a period of not more than five years, of which the grantee may use not more than 18 months for planning and program design. (Section 4303(d)(1)(B) of the ESEA). We establish that applicants may only propose to support one charter school per grant application, in accordance with section 437(d)(1) of GEPA, 20 U.S.C. 1232(d)(1).

We reference additional regulations outlining funding restrictions in the Applicable Regulations section in this notice.

5. Recommended Page Limit: The application narrative (Part III of the application) is where you, the applicant, address the selection criteria that reviewers use to evaluate your application. We recommend that you (1) limit the narrative to no more than 50 pages, and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative.

V. Application Review Information

1. Selection Criteria: The selection criteria for applicants submitting applications under CFDA numbers 84.282B and 84.282E are listed in paragraphs (a) and (b) of this section, respectively. These selection criteria, where cited, are based on section 4303 of the ESEA and 34 CFR 75.210. We are establishing the remaining selection criteria for the FY 2018 grant competition and any subsequent year in which we make awards from the list of unfunded applications from this competition, in accordance with section 437(d)(1) of GEPA, 20 U.S.C. 1232(d)(1). The maximum possible score for addressing all of the criteria in each section is 100 points. The maximum possible score for addressing each criterion is indicated in parentheses following the criterion.

In evaluating an application for a Developer Grant, the Secretary considers the following criteria:

(a) Selection Criteria for Grants for the Opening of New Charter Schools (CFDA number 84.282B).

(i) Contribution in Assisting Educationally Disadvantaged Students (up to 15 points).

The significance of the contribution the proposed project will make in expanding educational opportunities for educationally disadvantaged students and enabling those students to meet challenging State academic standards. In determining the significance of the contribution the proposed project will make, the Secretary considers the quality of the plan to ensure that the charter school the applicant proposes to open will recruit and enroll educationally disadvantaged students and serve those students at rates comparable to surrounding public schools.

(ii) Quality of the Project Design (34 CFR 75.210(c)(1)and (c)(2)(i) and (ii)) (up to 30 points).

The Secretary considers the quality of the design of the proposed project. In determining the quality of the design of the proposed project, the Secretary considers the following factors:

(1) The extent to which the goals, objectives, and outcomes to be achieved by the proposed project are clearly specified and measurable (up to 15 points); and

(2) The extent to which the design of the proposed project is appropriate to, and will successfully address, the needs of the target population or other identified needs (up to 15 points).

(iii) Quality of Project Personnel (34 CFR 75.210(e)(1), (e)(2), and (e)(3)(ii)) (up to 20 points).

The Secretary considers the quality of the personnel who will carry out the proposed project. In determining the quality of project personnel, the Secretary considers:

(1) The extent to which the applicant encourages applications for employment from persons who are members of groups that have traditionally been underrepresented based on race, color, national origin, gender, age, or disability (up to 2 points); and

(2) The qualifications, including relevant training and experience, of key project personnel (up to 18 points).

(iv) Quality of the Management Plan (34 CFR 75.210(g)(1) and (g)(2)(i)) (up to 20 points).

The Secretary considers the quality of the management plan for the proposed project. In determining the quality of the management plan for the proposed project, the Secretary considers the adequacy of the management plan to achieve the objectives of the proposed project on time and within budget, including clearly defined responsibilities, timelines, and milestones for accomplishing project tasks.

(v) Continuation Plan (Section 4303(f)(1)(A)(vi)(II) of the ESEA) (up to 15 points).

The extent to which the eligible applicant is prepared to continue to operate charter schools that would receive grant funds in a manner consistent with the eligible applicant's application once the grant funds under this program are no longer available.

(b) Selection Criteria for Replication and Expansion Grants (CFDA number 84.282E).

(i) Contribution in Assisting Educationally Disadvantaged Students (15 points).

The significance of the contribution the proposed project will make in expanding educational opportunities for educationally disadvantaged students and enabling those students to meet challenging State academic standards. In determining the significance of the contribution the proposed project will make, the Secretary considers the quality of the plan to ensure that the charter school the applicant proposes to replicate or expand will recruit and enroll educationally disadvantaged students and serve those students at rates comparable to surrounding public schools.

(ii) Quality of the Project Design (34 CFR 75.210(c)(1) and (c)(2)(i) and (ii)) (up to 30 points).

The Secretary considers the quality of the design of the proposed project. In determining the quality of the design of the proposed project, the Secretary considers the following factors:

(1) The extent to which the goals, objectives, and outcomes to be achieved by the proposed project are clearly specified and measurable (up to 15 points); and

(2) The extent to which the design of the proposed project is appropriate to, and will successfully address, the needs of the target population or other identified needs (up to 15 points).

(iii) Quality of Project Personnel (34 CFR 75.210(e)(1) and (e)(3)(ii)) (up to 10 points).

The Secretary considers the quality of the personnel who will carry out the proposed project. In determining the quality of project personnel, the Secretary considers:

(1) The extent to which the applicant encourages applications for employment from persons who are members of groups that have traditionally been underrepresented based on race, color, national origin, gender, age, or disability (up to 1 point);

(2) The qualifications, including relevant training and experience, of key project personnel (up to 9 points).

(iv) Quality of the Management Plan (34 CFR 75.210(g)(1) and (g)(2)(i)) (up to 10 points).

The Secretary considers the quality of the management plan for the proposed project. In determining the quality of the management plan for the proposed project, the Secretary considers the adequacy of the management plan to achieve the objectives of the proposed project on time and within budget, including clearly defined responsibilities, timelines, and milestones for accomplishing project tasks.

(v) Quality of the Eligible Applicant (20 points).

The extent to which the applicant demonstrates that the charter school to be replicated or expanded is a high-quality charter school, including:

(1) The degree to which the applicant has demonstrated success in increasing academic achievement, including graduation rates where applicable, for all students and for each of the subgroups of students described in section 1111(c)(2) of the ESEA, attending the charter schools the applicant operates or manages. These subgroups of students include: Economically disadvantaged students, students from major racial and ethnic groups, children with disabilities, and students who are ELs.

(2) The extent to which the academic achievement results (including annual student performance on statewide assessments and annual student attendance and retention rates, and where applicable and available, student academic growth, high school graduation rates, college attendance rates, and college persistence rates) for educationally disadvantaged students served by the charter schools operated or managed by the applicant have exceeded the average academic achievement results for such students in the State.

(3) The extent to which charter schools operated or managed by the applicant have been closed; have had a charter revoked due to noncompliance with statutory or regulatory requirements; have had their affiliation with the applicant revoked or terminated, including through voluntary disaffiliation; have had any significant issues in the area of financial or operational management; have experienced significant problems with statutory or regulatory compliance that could lead to revocation of the school's charter; and have had any significant issues with respect to student safety.

(vi) Continuation Plan (Section 4303(f)(1)(A)(vi)(II) of the ESEA) (up to 15 points).

The extent to which the eligible applicant is prepared to continue to operate charter schools that would receive grant funds in a manner consistent with the eligible applicant's application once the grant funds under this program are no longer available.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures:

(a) Program Performance Measures. The goal of the CSP is to support the creation and development of a large number of high-quality charter schools that are free from State or local rules that inhibit flexible operation, are held accountable for enabling students to reach challenging State performance standards, and are open to all students. The Secretary has two performance indicators to measure progress toward this goal: (1) The number of charter schools in operation around the Nation, and (2) the percentage of fourth- and eighth-grade charter school students who are achieving at or above the proficient level on State assessments in mathematics and reading/language arts. Additionally, the Secretary has established a third measure to examine the efficiency of the CSP: Federal cost per student in implementing a successful school (defined as a school in operation for three or more consecutive years).

These three measures constitute the Department's indicators of success for this program. Consequently, we advise an applicant for a grant under this program to give careful consideration to these measures in conceptualizing the approach and evaluation for its proposed project. The evaluation must serve to determine whether the charter school is meeting the terms of the school's charter and meeting or exceeding the student academic achievement requirements and goals for the charter school. Each grantee will be required to provide, in its annual performance and final reports, data about its progress in meeting these measures.

(b) Project-Specific Performance Measures. Applicants must propose project-specific performance measures and performance targets consistent with the objectives of the proposed project. Applications must provide the following information as required under 34 CFR 75.110(b) and (c):

(1) Performance measures. How each proposed performance measure would accurately measure the performance of the project and how the proposed performance measure would be consistent with the performance measures established for the program funding the competition.

(2) Baseline data. (i) Why each proposed baseline is valid; or (ii) If the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

Note: The Secretary encourages the applicant to consider developing project-specific performance measures and targets tied to its grant activities (for instance, if grant funds will support professional development for teachers and other staff, the applicant should include measures related to the outcomes for the professional development), as well as to student academic achievement during the grant period. The project-specific performance measures should be sufficient to gauge the progress throughout the grant period and show results by the end of the grant period.

For technical assistance in developing effective performance measures, applicants are encouraged to review information provided by the Department's Regional Educational Laboratories (RELs). The RELs seek to build the capacity of States and school districts to incorporate data and research into education decision-making. Each REL provides research support and technical assistance to its region but makes learning opportunities available to educators everywhere. For example, the REL Northeast and Islands has created the following resource on logic models: https://ies.ed.gov/ncee/edlabs/regions/northeast/pdf/REL_2015057.pdf.

(4) Data Collection and Reporting. The applicant must also describe in the application: (i) The data collection and reporting methods the applicant would use and why those methods are likely to yield reliable, valid, and meaningful performance data, and (ii) the applicant's capacity to collect and report reliable, valid, and meaningful performance data, as evidenced by high-quality data collection, analysis, and reporting in other projects or research.

Note: If the applicant does not have experience with the collection and reporting of performance data through other projects or research, the applicant should provide other evidence of its capacity to successfully carry out data collection and reporting for the proposed project.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: February 27, 2018.
Margo Anderson,
Acting Deputy Assistant Secretary for Innovation and Improvement.

[FR Doc. 2018-04294 Filed 3-1-18; 8:45 am]

BILLING CODE 4000-01-P